ENVIRONMENTAL PROTECTION AGENCY

40 CFR Part 52

[EPA-R06-OAR-2013-0808; FRL-9932-49-Region 6]

Approval and Promulgation of Implementation Plans; Texas; Infrastructure Requirements for the 1997 Ozone and the 1997 and 2006 PM2.5 NAAQS

AGENCY: Environmental Protection Agency (EPA).

ACTION: Proposed rule.

SUMMARY: The Environmental Protection Agency (EPA) is proposing to finalize a change to the Code of Federal Regulations (CFR) to reflect a 2014 EPA approval to a State Implementation Plan (SIP) revision to regulate greenhouse gases (GHGs) in Texas' Prevention of Significant Deterioration (PSD) permitting program and to show that the SIP deficiency identified in a prior partial disapproval for the 1997 Ozone and the 1997 and 2006 PM2.5 National Ambient Air Quality Standards (NAAQS) has been addressed.

DATES: Written comments should be received on or before October 5, 2015.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Carl Young, 214-665-6645, young.carl@epa.gov.

SUPPLEMENTARY INFORMATION: In the final rules section of this Federal Register, the EPA is finalizing a change to the CFR without prior proposal because the Agency views this as noncontroversial submittal and anticipates no adverse comments. The change is to reflect a 2014 EPA approval to a SIP revision to regulate GHGs in the Texas PSD permitting program and to show that the SIP deficiency identified in a prior partial disapproval has been addressed. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: August 26, 2015.
Ron Curry,
Regional Administrator, Region 6.

[FR Doc. 2015-22036 Filed 9-3-15; 8:45 am]

BILLING CODE 6560-50-P